FEDERAL COMMUNICATIONS COMMISSION

47 CFR Part 73

[DA 06-1487; MB Docket No. 05-305; RM-11137; RM-11248]

Radio Broadcasting Services; Lometa and Richland Springs, TX

AGENCY: Federal Communications Commission.

ACTION: Final rule.

SUMMARY: At the request of Charles Crawford, the Audio Division allots Channel 253A at Lometa, Texas, as that community's second local FM transmission service. To accommodate the Lometa allotment, Channel 235A is substituted for vacant Channel 252A at Richland Springs, Texas. Channel 253A is allotted at Lometa with a site restriction of 11.7 kilometers (7.3 miles) northwest of the community at coordinates 31-18-45 NL and 98-26-45 WL. Channel 235A is substituted for vacant Channel 252A at Richland Springs, at Petitioner's requested site 9.4 kilometers (5.8 miles) southwest of the community at coordinates 31-12-30 NL and 99-00-45 WL. A filing window period for Channel 253A at Lometa will not be opened at this time. Instead, the issue of opening this allotment for auction will be addressed by the Commission in a subsequent Order.

DATES: Effective September 5, 2006.

ADDRESSES: Secretary, Federal Communications Commission, 445 Twelfth Street, SW., Washington, DC 20554.

FOR FURTHER INFORMATION CONTACT: Victoria M. McCauley, Media Bureau, (202) 418-2180.

SUPPLEMENTARY INFORMATION: This is a synopsis of the Commission's Report and Order, MB Docket No. 05-305, adopted July 19, 2006, and released July 21, 2006. At the request of Charles Crawford, the Audio Division allots Channel 253A at Lometa, Texas, as that community's second local FM transmission service. To accommodate the Lometa allotment, Channel 235A is substituted for vacant Channel 252A at Richland Springs, Texas. 70 FR 70777 (November 23, 2005). The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC, 20054, telephone 1-800-378-3160 or http://www.BCPIWEB.com. The Commission will send a copy of this Report and Order in a report to be sent to Congress and the Government Accountability Office pursuant to the Congressional Review Act, see 5 U.S.C. 801 (a)(1)(A).

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Texas, is amended by adding Channel 253A at Lometa and by removing Channel 252A and by adding Channel 235A at Richland Springs.

Federal Communications Commission.
John A. Karousos,
Assistant Chief, Audio Division, Media Bureau.

[FR Doc. E6-12853 Filed 8-8-06; 8:45 am]

BILLING CODE 6712-01-P